DEPARTMENT OF STATE

[Public Notice 4235]

An Invitation To Comment on the 2002 Progress Report on the Canada-United States Air Quality Agreement

The International Joint Commission invites public comment on progress by the United States and Canada in reducing transboundary air pollution under the 1991 Canada-United States Agreement on Air Quality. The 2002 Progress Report provides updates on acid rain control programs, ground-level ozone controls, cooperative efforts on particulate matter, data measurement and analysis, notification of sources of transboundary air pollution, and the results of the second five-year review of the agreement, among other issues. The Commission will provide a synthesis of comments received to the two governments and the public as directed by the Agreement.

The Governments of the United States and Canada signed an Agreement on Air Quality on March 13, 1991. The purpose of the Agreement was to establish a practical and effective instrument to address shared concerns on transboundary air pollution.

Under the terms of the Agreement, the Governments' bilateral Air Quality Committee reviews progress made in the implementation of the Agreement, prepares and submits periodic progress reports to the Governments, and refers each progress report to the International Joint Commission for solicitation of public input. The 2002 Progress Report of the Committee is now available and may be obtained from:

Clean Air Markets Division, U.S. Environmental Protection Agency, 1200 Pennsylvania Avenue, NW. (6204N), Washington, DC 20460. Acid Rain Hotline: (202) 564-9620

Environment Canada, Inquiry Centre, 351 St. Joseph Blvd., Hull, Quebec, K1A 0H3, (800) 668-6767.

The full report is also available at the following sites on the World Wide Web: http://www.epa.gov/airmarkets/usca/2002report.html http://www.ec.gc.ca/air/qual/2002/index_e.html

Under the Agreement, the Governments assigned the International Joint Commission the responsibility of inviting comments on each progress report of the Air Quality Committee. The International Joint Commission invites comment on any aspect of the 2002 Progress Report. Please send comments in writing by February 28, 2003, to either address below, or contact us if you have any questions about the comment process.

International Joint Commission, United States Section, 1250 23rd Street, NW., Suite 100, Washington, DC 20440. Telephone: (202) 736-9000. Fax: (202) 736-9015, E-mail: commission@washington.ijc.org

International Joint Commission, Canadian Section, 234 Laurier Ave., W., 22nd Floor, Ottawa, ON K1P 6K6. Telephone: (613) 995-2984. Fax: (613) 993-5583. commission@ottawa.ijc.org

Dated: December 16, 2002.
Gerry Galloway,
Secretary, United States Section, International Joint Commission.

[FR Doc. 02-32125 Filed 12-19-02; 8:45 am]

BILLING CODE 4710-14-P